DEPARTMENT OF HEALTH AND HUMAN SERVICES

Agency for Healthcare Research and Quality

Statement of Organization, Functions, and Delegations of Authority

AGENCY: Agency for Healthcare Research and Quality, HHS.

ACTION: Notice.

SUMMARY: The Agency for Healthcare Research and Quality has modified its organizational structure.

SUPPLEMENTARY INFORMATION: Part E, chapter E (Agency for Healthcare Research and Quality), of the Statement of Organization, Functions, and Delegations of Authority for the Department of Health and Human Services (61 FR 15955-58) April 10, 1996, most recently amended at 81 FR 22271 on April 15, 2016) is amended to reflect recent organizational changes. The specific amendments are as follows:

I. Under Section E-10, Organization, delete all components and replace them with the following:

A. Office of the Director.

B. Center for Evidence and Practice Improvement.

C. Center for Quality Improvement and Patient Safety.

D. Center for Financing, Access, and Cost Trends.

E. Office of Communications.

F. Office of Extramural Research, Education, and Priority Populations.

G. Office of Management Services.

II. Under Section E-20, Functions, delete Center for Evidence and Practice Improvement, Center for Financing, Access, and Cost Trends, Center for Quality Improvement and Patient Safety, and Office of the Director in its entirety and replace with the following:

Center for Evidence and Practice Improvement. Conducts and supports research on health care delivery and practice improvement across the continuum of care from prevention to chronic care management to end-of-life care. Specifically: (1) Synthesizes evidence and translates science for multiple stakeholders; (2) advances decision and communication sciences to facilitate informed treatment and healthcare decision-making by patients and their healthcare providers; (3) explores how digital healthcare research can improve clinical decision-making and health care quality; (4) catalyzes and promotes sustainability of improvements in clinical practice across health care settings through research, demonstration projects, and partnership development; (5) studies the roles that health professionals, health systems, and organizations play in the provision of health care services; (6) examines the role of health systems in improving quality and efficiency of health care services; and (7) operates the National Center for Excellence in Primary Care Research.

Shall be organized into the following four divisions:

Division of Evidence-Based Practice Centers: Produces evidence syntheses by conducting systematic evidence reviews using robust and rigorous methodologies and advances evidence synthesis methods to ensure scientific rigor and unbiased reviews.

Division of U.S. Preventive Services Task Force: Provides scientific, administrative, and dissemination support for the independent U.S. Preventive Services Task Force, enabling the Task Force to make evidence-based recommendations on clinical preventive services.

Division of Digital Healthcare Research: Utilizes advanced analytics to enhance healthcare decision-making and research how facets of the evolving digital healthcare ecosystem can best create transformational value for patients and their families in delivering safe and effective care.

Division of Practice Improvement: Advances the science of clinical practice improvement, including shared decision-making; evaluates and supports innovative models of practice transformation in diverse settings; facilitates communities of learning to promote the implementation of evidence for practice improvement; and serves as a trusted source of evidence and tool development for methods, measures, and evaluation of practice improvement.

Center for Financing, Access, and Cost Trends. Conducts and supports studies of the use of and expenditures for healthcare services, the sources of payment for that care, the availability and cost of health insurance, and access to healthcare. Administers large-scale surveys and develops large data sets to support health care policy and behavioral research and analysis.

Shall be organized into the following four divisions:

Division of Statistical Research and Methods (DSRM): Provides a wide range of statistical activities for designing and implementing the Medical Expenditure Panel Survey (MEPS) and for planning and researching to help guide and improve these data collection and analysis.

Division of Research and Modeling (DRM): Conducts studies on access to, costs, and financing of healthcare services. Provides ongoing analytic support to MEPS design and implementation. Develops and maintains various simulation models, components, databases, tools, and research products that enhance the value of the AHRQ data. Utilizes these models and databases to conduct microsimulation analyses of the effects, on households and individuals, of health policies embodied in current law and the potential impacts of healthcare policies embodied in generic versions of proposed healthcare reforms.

Division of Survey Operations (DSO): Oversees the MEPS data collection, processing, and distribution activities. Directs data collection for the major MEPS surveys, prepares data files for public use, and conducts workshops on the appropriate use of MEPS data. Publishes statistical briefs, research findings, and a series of methodological reports. Manages a data center for researchers that houses MEPS data and maintains liaisons with Federal and non-federal individuals and organizations engaged in health services research.

Division of Healthcare Delivery and Systems Research (DHDSR): Develops new evidence, tools, and measures to understand how health care is delivered in the U.S., emphasizing the roles that physicians, physician practices, hospitals, health systems, other medical professionals, and organizations play in the provision of health care services.

Center for Quality Improvement and Patient Safety. Measures the performance of the U.S. health care system; identifies, promotes, and supports evidence-based research; and provides information used to improve the safety and quality of health care. Collaborates with stakeholders across the health care system to implement evidence-based practices and accelerate and amplify improvements in quality, including patient and workforce safety.

Shall be organized into the following five divisions:

Division of General Patient Safety: Leads research efforts on the risks and harms inherent in delivering healthcare services in various settings. Develops, tests, and facilitates understanding and use of evidence-based tools and information to improve the quality and safety of health care and reduce the risk of patient harm.

Division of Patient Safety Organizations: Administers the Patient Safety Organization (PSO) Program per the Patient Safety and Quality Improvement Act 2005. Approves and oversees PSOs that apply for official federal “listing.” Publishes Common Formats for measuring adverse events in hospitals.

Division of Healthcare-Associated Infections: Leads research studies and implementation projects that prevent, reduce, and ultimately eliminate healthcare-associated infections (HAIs) and combat antibiotic resistance. It fosters the creation of new knowledge and the generation of evidence to develop improved methods for preventing healthcare-associated infections and improving antibiotic use in multiple settings. It promotes the wide-scale implementation of effective interventions for preventing HAIs and promoting antibiotic stewardship in all these care settings.

Division of Quality Measurement and Improvement: Conducts quality measurement and evaluates improvement activities to improve healthcare delivered in the United States. Seeks opportunities to integrate various measurement efforts to provide a complete picture of quality and safety. Promotes enhanced collaboration and coordination of measurement efforts, including integration where possible, to serve the needs of multiple stakeholders who use measurements, such as front-line clinicians, patients, safety and quality experts, administrators, researchers, payers, policymakers, and others. Conducts focused measurement programs, including the Consumer Assessment of Healthcare Providers and Systems, Surveys on Patient Safety Culture programs, and the AHRQ Quality Indicators.

Division of Healthcare Data and Analytics (DHDA): Leads the development, production, and improvement of healthcare delivery data and tools for use in research and policy analysis focused on HCUP and the supply side of the medical care market. Directs, conducts, and supports research on health care delivery and utilization to examine issues related to access, utilization, cost, safety, and quality of hospital, physician, and other services. Disseminates data, tools, and statistics to facilitate and inform public and private health policy analysis, clinical studies, and socioeconomic research.

Office of the Director (OD). Provides leadership of the Agency and is responsible for planning, managing, and coordinating Agency programs and activities in fulfillment of AHRQ's mission. Principal activities include ensuring the overall scientific integrity and objectivity of the Agency's research and programs; directing and coordinating the Agency's programs, research, training programs, and dissemination activities; ensuring Agency programs support Administration goals and objectives; representing the Agency within the Department, at the highest levels of Government, and to the public.

Shall be organized into the following two sub-offices:

Immediate Office of the Director (IOD). Provides overall leadership of the Agency and plans, manages, and coordinates the programs and activities of all AHRQ components. The IOD supports the Director and Deputy Director in achieving the Agency's mission. Specifically, (1) provides strategic advice to the Director in support of agency priorities; (2) coordinates the legislative activities of the Agency; (3) manages the day-to-day operations of the Office of the Director and provides administrative support services; and (4) controls the flow of correspondence and official documents entering and leaving the Agency.

Office of Policy, Planning, and Evaluation. Directs and coordinates AHRQ's policy, planning, and evaluation. Specifically, (1) directs and coordinates program planning activities in fulfillment of the Agency's mission; (2) plans and manages the program evaluation activities of the Agency, including evaluations of dissemination, training, and research programs; (3) provides support and management for the activities of the Agency's National Advisory Council; and (4) maintains ongoing liaison with public and private sector producers and users of health services research.

All delegations and redelegations of authority to officers and employees of the Agency for Healthcare Research and Quality officers and employees immediately before the effective date of this reorganization shall continue in effect pending further redelegation, provided they are consistent with this reorganization.

These changes are effective upon the date of signature.

Dated: October 3, 2024.
Robert Otto Valdez,
Director.

[FR Doc. 2024-23316 Filed 10-8-24; 8:45 am]

BILLING CODE 4160-90-P